DEPARTMENT OF TRANSPORTATION

Federal Highway Administration

Notice of Final Federal Agency Action on Proposed Bridge Replacement in Massachusetts

AGENCY: Federal Highway Administration (FHWA), DOT.

ACTION: Notice of Limitations on Claims for Judicial Review of Action by FHWA.

SUMMARY: This notice announces action taken by the FHWA that is final within the meaning of 23 U.S.C. 139(l)(1). The action relates to the proposed Whittier Bridge (Interstate 95 over the Merrimack River) replacement/1-95 Improvement project in Newburyport, Amesbury and Salisbury, Massachusetts. The action grants an approval for the project under the National Environmental Policy Act of 1969.

DATES: By this notice, the FHWA is advising the public of final agency actions subject to 23 U.S.C. Sec. 139(l)(1). A claim seeking judicial review of the Federal agency action on the highway project will be barred unless the claim is filed on or before August 6, 2012.

FOR FURTHER INFORMATION CONTACT: For FHWA: Damaris Santiago, Environmental Engineer, FHWA Massachusetts Division Office, 55 Broadway, 10th Floor, Cambridge, MA 02142, (617) 494-2419, dsantiago@dot.gov. For Massachusetts Department of Transportation (MassDOT) Highway Division: James Cerbone, Project Manager, MassDOT Highway Division, 10 Park Plaza, Room 4260, Boston, MA 02116, 9 a.m. to 5 p.m., (617) 973-7529, James.Cerbone@state.ma.us.

SUPPLEMENTARY INFORMATION: Notice is hereby given that the FHWA has taken final agency action subject to 23 U.S.C. 139(l)(1) by issuing approval for the following bridge/highway improvement project in the Commonwealth of Massachusetts. The proposed project involves as its centerpiece the replacement of the John Greenleaf Whittier Bridge over the Merrimack River. It also includes the replacement or reconstruction of four bridges along 1-95 in Newburyport and Amesbury and the widening of 1-95 between Exit 57 in Newburyport and Exit 60 in Salisbury. When completed, there will be four travel lanes, a shoulder adjacent to the high speed lane and a breakdown lane in each direction. The Whittier Bridge/I-95 Improvement Project was recently selected by the Obama Administration for expedited permitting and environmental review. It is one of the largest projects to be undertaken by MassDOT under the Commonwealth's $3 billion Accelerated Bridge Program. The project includes the Whittier Trail: the first shared-use path to be constructed along a Massachusetts interstate. The action by the Federal agency, and the law under which the action was taken, are described in the Environmental Assessment (EA), for which a Finding of No Significant Impact (FONSI) was issued on January 20, 2012 and other documents in the FHWA project records. The EA, FONSI and other project records are available by contacting FHWA or MassDOT at the addresses above. The FHWA EA and FONSI can be viewed and downloaded from the project Web site at http://whittierbridge.mhd.state.ma.us/ or viewed at public libraries in the municipalities of Amesbury, Newburyport, and Salisbury, Massachusetts.

This notice applies to all Federal agency decisions as of the issuance date of this notice and all laws under which such actions were taken, including but not limited to:

1. National Environmental Policy Act of 1969.

Authority: 23 U.S.C. 139(l)(1).

Issued on: January 31, 2012.
Pamela S. Stephenson,
Division Administrator, Cambridge.

[FR Doc. 2012-2830 Filed 2-7-12; 8:45 am]

BILLING CODE 4910-RY-P